DEPARTMENT OF THE TREASURY

Internal Revenue Service

26 CFR Part 1

[REG-146459-05]

RIN 1545-BF04

Designated Roth Accounts Under Section 402A; Hearing

AGENCY: Internal Revenue Service (IRS), Treasury.

ACTION: Change of location for public hearing.

SUMMARY: This document provides a change of location for a public hearing on proposed regulations under sections 402(g), 402A, 403(b), and 408A of the Internal Revenue Code relating to designated Roth accounts.

DATES: The public hearing is being held on Wednesday, July 26, 2006, at 10 a.m.

ADDRESSES: The public hearing was originally being held in the IRS Auditorium, Internal Revenue Building, 1111 Constitution Avenue, NW., Washington, DC. The hearing location has changed. The public hearing will be held in the IRS Auditorium (New Carrollton location), 5000 Ellin Road, Lanham MD 20706.

FOR FURTHER INFORMATION CONTACT: Guy R. Traynor, (202) 874-9752 or Richard Hurst at Richard.A.Hurst@irscounsel.treas.gov.

SUPPLEMENTARY INFORMATION: The subject of the public hearing is a notice of proposed rulemaking (REG-146459-05) that was published in the Federal Register on Thursday, January 26, 2006 (71 FR 4320).

The rules of 26 CFR 601.601(a)(3) apply to the hearing. Persons who submitted written comments by April 26, 2006, and outlines by July 5, 2006, may present oral comments at the hearing.

A period of 10 minutes is allotted to each person for presenting oral comments. The IRS will prepare an agenda containing the schedule of speakers. Copies of the agenda will be made available, free of charge, at the hearing.

Guy R. Traynor,
Chief, Publications and Regulations Branch, Legal Processing Division, Associate Chief Counsel (Procedure and Administration).

[FR Doc. 06-6260 Filed 7-12-06; 2:37 pm]

BILLING CODE 4830-01-P